Title 3—

The President

Proclamation 7271 of February 1, 2000

American Heart Month, 2000

By the President of the United States of America

A Proclamation

In the past half century, our Nation has made enormous progress in the fight against heart disease. Through careful research, scientists and doctors have identified key factors—including smoking, high blood pressure, high blood cholesterol, diabetes, obesity, and physical inactivity—that increase the risk of heart disease. Working with dedication and determination, they have developed new treatments and procedures, such as cardiopulmonary resuscitation, defibrillation, clot-dissolving medicines, angioplasty, and cardiac imaging devices, that have saved many lives. As a result of these advances, the death rate from coronary heart disease has fallen dramatically in our Nation, with a nearly 60-percent reduction since its peak in the mid-1960s.

While these developments are significant, heart disease remains a serious health problem. Despite our knowledge of the importance of exercise and a proper diet to maintaining a healthy heart, studies indicate that both physical inactivity and obesity are on the rise throughout our country. Today, more than 58 million Americans have one or more types of cardiovascular disease (CVD), and each year nearly 1 million Americans die from CVD—more than from the next 7 leading causes of death combined. Furthermore, rates of coronary heart disease deaths and the prevalence of some risk factors remain disproportionately high in minority and low-income populations.

As we stand at the dawn of this new century, it is crucial that we build on the developments of the last century to reduce the incidence of CVD, to address the disparity among various segments of our population, and to make further progress in the fight against heart disease. To help meet this challenge, my Administration has launched the Healthy People 2010 initiative, which addresses health problems that can be prevented through better care and increased public awareness. Among the initiative's ambitious goals are improving the prevention, detection, and treatment of heart disease risk factors, earlier identification and quicker response in the treatment of heart attacks, and prevention of recurrent cardiovascular events, such as second strokes.

The work of researchers at the National Human Genome Research Institute of the National Institutes of Health (NIH) also holds great promise for the fight against heart disease. With the completion of their monumental project of mapping and sequencing all human chromosomes, we will soon have the capability to identify at birth all those who are genetically predisposed to heart disease and provide them with the treatment and guidance they need through the years to live longer, healthier lives.

The Federal Government will continue to support research and public education to improve heart health through the National Heart, Lung, and Blood Institute, also at NIH. And all Americans should remain grateful that the American Heart Association, through its research and education programs and its vital network of dedicated volunteers, maintains a crucial role in bringing about much-needed advances in the prevention and treatment of heart disease.

In recognition of the importance of the ongoing fight against cardiovascular disease, the Congress, by Joint Resolution approved December 20, 1963 (77 Stat. 843; 36 U.S.C. 101b), has requested that the President issue an annual proclamation designating February as “American Heart Month.”

NOW, THEREFORE, I, WILLIAM J. CLINTON, President of the United States of America, do hereby proclaim February 2000 as American Heart Month. I invite the Governors of the States, the Commonwealth of Puerto Rico, officials of other areas subject to the jurisdiction of the United States, and the American people to join me in reaffirming our commitment to combating cardiovascular disease and strokes.

IN WITNESS WHEREOF, I have hereunto set my hand this first day of February, in the year of our Lord two thousand, and of the Independence of the United States of America the two hundred and twenty-fourth.

wj

[FR Doc. 00-2538

Filed 2-2-00; 8:45 am]

Billing code 3195-01-P